DEPARTMENT OF THE TREASURY

Internal Revenue Service

Publication of the Tier 2 Tax Rates

AGENCY: Internal Revenue Service, Treasury.

ACTION: Notice.

SUMMARY: Publication of the tier 2 tax rates for calendar year 2004 as required by section 3241(d) of the Internal Revenue Code (26 U.S.C. 3241). Tier 2 taxes on railroad employees, employers, and employee representatives (a group unique to the railroad industry) fund a private pension benefit of the railroad retirement system.

DATES: The tier 2 tax rates for calendar year 2004 apply to compensation paid in calendar year 2004.

FOR FURTHER INFORMATION CONTACT: Margaret A. Owens, CC:TEGE:EOEG:ET1, Internal Revenue Service, 1111 Constitution Avenue, NW., Washington, DC 20224, Telephone Number (202) 622-6040 (not a toll-free number).

Tier 2 Tax Rates: The tier 2 tax rate for 2004 under section 3201(b) on employees is 4.9 percent of compensation. The tier 2 tax rate for 2004 under section 3221(b) on employers is 13.1 percent of compensation. The tier 2 tax rate for 2004 under section 3211(b) on employee representatives is 13.1 percent of compensation.

Dated: November 18, 2003.
Nancy Marks,
Deputy Division Counsel/Deputy Associate Chief Counsel (Tax Exempt and Government Entities).

[FR Doc. 03-29443 Filed 11-24-03; 8:45 am]

BILLING CODE 4830-01-P